DEPARTMENT OF AGRICULTURE

Grain Inspection, Packers and Stockyards Administration

9 CFR Part 201

RIN 0580-AB10

Required Scale Tests

AGENCY: Grain Inspection, Packers and Stockyards Administration.

ACTION: Correcting amendments.

SUMMARY: The Grain Inspection, Packers and Stockyards Administration published a document in the Federal Register on January 20, 2011 (76 FR 3485), defining required scale tests. That document incorrectly defined limited seasonal basis in § 201.72(a) (9 CFR 201.72(a)). This document corrects the final regulation by revising this section.

DATES: Effective on April 4, 2011.

FOR FURTHER INFORMATION CONTACT: S. Brett Offutt, Director, Policy and Litigation Division, P&SP, GIPSA, 1400 Independence Ave., SW., Washington, DC 20250, (202) 720-7363, s.brett.offutt@usda.gov.

SUPPLEMENTARY INFORMATION:

List of Subjects in 9 CFR Part 201

Reporting and recordkeeping requirements, Measurement standards, Trade practices.

Accordingly, 9 CFR part 201 is corrected by making the following correcting amendment:

PART 201—REGULATIONS UNDER THE PACKERS AND STOCKYARDS ACT

1. The authority citation for part 201 continues to read as follows:

Authority: 7 U.S.C. 181-229c.

2. In § 201.72, revise the last sentence of paragraph (a) to read as follows:

§ 201.72 Scales; testing of.

(a) * * * Except that if scales are used on a limited seasonal basis (during any continuous 6-month period) for purposes of purchase, sale, acquisition, payment or settlement, the stockyard owner, swine contractor, market agency, dealer, live poultry dealer, or packer using such scales may use the scales within a 6-month period following each test.

* * * * *

Alan R. Christian,
Acting Administrator, Grain Inspection, Packers and Stockyards Administration.

[FR Doc. 2011-7831 Filed 4-1-11; 8:45 am]

BILLING CODE 3410-KD-P